DEPARTMENT OF HEALTH AND HUMAN SERVICES

Food and Drug Administration

[Docket No. FDA-2008-N-0306]

Preparation for International Cooperation on Cosmetics Regulations Meetings in Washington, DC; Public Meeting

AGENCY: Food and Drug Administration, HHS.

ACTION: Notice of meeting.

SUMMARY: The Food and Drug Administration (FDA) is announcing a public meeting entitled “International Cooperation on Cosmetics Regulations (ICCR)—Preparation for ICCR Meetings in Washington, DC” to provide information and receive comments on the International Cooperation on Cosmetics Regulations (ICCR) as well as the upcoming meetings in Washington, DC. The topics to be discussed are the topics for discussion at the forthcoming ICCR steering committee meeting. The purpose of the meeting is to solicit public input prior to the next steering committee and expert working group meetings in Washington, DC, the week of July 28, 2008, at which the action items from the first ICCR meeting are to be discussed.

DATES: The meeting will be held on June 19, 2008, from 3 p.m. to 4:30 p.m. Send registration information and requests to make a presentation by June 16, 2008.

ADDRESSES: The meeting will be held at 5600 Fishers Lane, 3rd fl., Chesapeake Conference Room, Rockville, MD 20857. For security reasons, all attendees must preregister 3 days prior to the meeting and are asked to arrive no later than 2:50 p.m. because attendees will be escorted from the front entrance of 5600 Fishers Lane to the Chesapeake Conference Room.

Comment Submissions: Submit written comments to the Divsion of Dockets Management (HFA-305), Food and Drug Administration, 5630 Fishers Lane, rm. 1061, Rockville, MD 20852. Submit electronic comments to http://www.regulations.gov.

FOR FURTHER INFORMATION CONTACT: Tammie Bell, Office of International Programs, Food and Drug Administration, 5600 Fishers Lane, Rockville, MD 20857, FAX: 301-827-0003, e-mail: Tammie.Bell2@fda.hhs.gov.

SUPPLEMENTARY INFORMATION:

I. Background

The purpose of the multilateral framework on the ICCR is to pave the way for the removal of regulatory obstacles to international trade while maintaining the highest level of global consumer protection.

ICCR is a voluntary international group of cosmetics regulatory authorities from the United States, Japan, the European Union, and Canada. These regulatory authority members will enter into constructive dialogue with their relevant cosmetics' industry trade associations. Currently, the ICCR members are Health Canada; the European Commission Directorate General for Enterprise and Industry; the Ministry of Health, Labor, and Welfare of Japan; and the U.S. Food and Drug Administration. All decisions made by the members of ICCR will be made by consensus and will be compatible with the laws, policies, rules, regulations, and directives of the respective administrations and governments. Members will implement and/or promote actions or documents within their own jurisdictions and seek convergence of regulatory policies and practices. Successful implementation will require input from stakeholders.

II. Registration and Requests for Oral Presentations

Send registration information (including name, title, firm name, address, telephone, and fax number), written material and requests to make oral presentations, to the contact person (Tammie.Bell2@fda.hhs.gov) (see DATES).

If you need special accommodations due to a disability, please contact Tammie Bell at least 7 days in advance.

Interested persons may present data, information, or views orally or in writing, on issues pending at the public meeting. Oral presentations from the public will be scheduled between approximately 4 p.m. and 4:30 p.m. Time allotted for oral presentations may be limited to 10 minutes. Those desiring to make oral presentations should notify the contact person (Tammie.Bell2@fda.hhs.gov) (see DATES) and submit a brief statement of the general nature of the evidence or arguments they wish to present, the names and addresses, phone number, fax, and e-mail of proposed participants, and an indication of the approximate time requested to make their presentation.

III. Transcripts

Please be advised that as soon as a transcript is available, it will be accessible at http://www.fda.gov/ohrms/dockets/ac/acmenu.htm. It may be viewed at the Division of Dockets Management (see ADDRESSES). A transcript will also be available in either hardcopy or on CD-ROM, after submission of a Freedom of Information request. Written requests are to be sent to Division of Freedom of Information (HFI-35), Office of Management Programs, Food and Drug Administration, 5600 Fishers Lane, rm. 6-30, Rockville, MD 20857.

IV. Comments

Interested persons may submit written or electronic comments to the Division of Dockets Management (see ADDRESSES). Submit a single copy of electronic comments or two paper copies of any mailed comments, except that individuals may submit one paper copy. Comments are to be identified with the docket number found in brackets in the heading of this document. Received comments may be seen in the Division of Dockets Management between 9 a.m. and 4 p.m., Monday through Friday.

Please note that on January 15, 2008, the FDA Division of Dockets Management Web site transitioned to the Federal Dockets Management System (FDMS). FDMS is a Government-wide, electronic docket management system. Electronic comments or submissions will be accepted by FDA only through FDMS at http://www.regulations.gov.

V. Electronic Access

The agenda for the public meeting will be made available via the internet at http://www.cfsan.fda.gov/~lrd/vidtel.html

Dated: May 28, 2008.
Jeffrey Shuren,
Associate Commissioner for Policy and Planning.

[FR Doc. E8-12338 Filed 6-2-08; 8:45 am]

BILLING CODE 4160-01-S